DEPARTMENT OF HOMELAND SECURITY

Federal Emergency Management Agency

[Docket ID FEMA-2016-0002; Internal Agency Docket No. FEMA-B-1650]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 28, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1650, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: September 12, 2016.
Roy E. Wright,
Deputy Associate Administrator for Insurance and Mitigation, Department of Homeland Security, Federal Emergency Management Agency.

I. Watershed-based studies:

Community | Community map repository address
Upper Rogue Watershed
Maps Available for Inspection Online at: http://www.fema.gov/preliminaryfloodhazarddata
Jackson County, Oregon and Incorporated Areas
City of Eagle Point | City Hall, 17 Buchanan Avenue South, Eagle Point, OR 97524.
City of Shady Cove | City Hall, 22451 Highway 62, Shady Cove, OR 97539.
Unincorporated Areas of Jackson County | Jackson County Development Services, 10 South Oakdale Avenue, Room 100, Medford, OR 97501.

II. Non-watershed-based studies:

Community | Community map repository address
Los Angeles County, California and Incorporated Areas
Maps Available for Inspection Online at: http://www.fema.gov/preliminaryfloodhazarddata
Project: 13-09-0682S Preliminary Date: March 25, 2016
City of Agoura Hills | Civic Center, 30001 Ladyface Court, Agoura Hills, CA 91301.
City of Westlake Village | City Hall, 31200 Oak Crest Drive, Westlake Village, CA 91361.
Unincorporated Areas of Los Angeles County | Public Works Headquarters, Watershed Management Division, 900 South Fremont Avenue, Alhambra, CA 91803.
Ventura County, California and Incorporated Areas
Maps Available for Inspection Online at: http://www.fema.gov/preliminaryfloodhazarddata
Projects: 13-09-0682S & 15-09-0445S Preliminary Date: March 25, 2016
City of Thousand Oaks | City Hall, 2100 East Thousand Oaks Boulevard, Thousand Oaks, CA 91362.
Unincorporated Areas of Ventura County | Ventura County Public Works Agency, 800 South Victoria Drive, Ventura, CA 93009.
Burlington County, New Jersey (All Jurisdictions)
Maps Available for Inspection Online at: http://www.fema.gov/preliminaryfloodhazarddata
Project: 15-02-0255S Preliminary Date: April 8, 2016
Borough of Fieldsboro | Municipal Building, 204 Washington Street, Fieldsboro, NJ 08505.
Borough of Medford Lakes | Municipal Building, Clerk's Office, 3rd Floor, 1 Cabin Circle, Medford Lakes, NJ 08055.
Borough of Palmyra | Borough Hall, 2nd Floor, 20 West Broad Street, Palmyra, NJ 08065.
Borough of Pemberton | Municipal Building, 50 Egbert Street, Pemberton, NJ 08068.
Borough of Riverton | Borough Hall, 505A Howard Street, Riverton, NJ 08077.
Borough of Wrightstown | Municipal Building, 21 Saylors Pond Road, Wrightstown, NJ 08562.
City of Beverly | City Hall, 2nd Floor, 446 Broad Street, Beverly, NJ 08010.
City of Bordentown | City Hall, Tax Office, 324 Farnsworth Avenue, Bordentown, NJ 08505.
City of Burlington | City Hall, Municipal Office, 525 High Street, Burlington, NJ 08016.
Township of Bass River | Bass River Township Municipal Building, 3 North Maple Avenue, New Gretna, NJ 08087.
Township of Bordentown | Municipal Building, Community Development Office, 1 Municipal Drive, Bordentown, NJ 08505.
Township of Burlington | Township Municipal Building, Engineering Department, 851 Old York Road, Burlington, NJ 08016.
Township of Chesterfield | Municipal Building, 300 Bordentown-Chesterfield Road, Chesterfield, NJ 08515.
Township of Cinnaminson | Township Building, 1621 Riverton Road, Cinnaminson, NJ 08077.
Township of Delanco | Township Hall, Clerk's Office, 770 Coopertown Road, Delanco, NJ 08075.
Township of Delran | Municipal Building, 900 Chester Avenue, Delran, NJ 08075.
Township of Eastampton | Municipal Building, 12 Manor House Court, Eastampton, NJ 08060.
Township of Edgewater Park | Township Building, 400 Delanco Road, Edgewater Park, NJ 08010.
Township of Evesham | Municipal Building, Department of Community Development, 984 Tuckerton Road, Evesham, NJ 08053.
Township of Florence | Municipal Complex, Clerk's Office, 711 Broad Street, Florence, NJ 08518.
Township of Hainesport | Township Municipal Building, 1401 Marne Highway, Hainesport, NJ 08036.
Township of Lumberton | Municipal Building, 35 Municipal Drive, Lumberton, NJ 08048.
Township of Mansfield | Mansfield Township Municipal Complex, 3135 Route 206 South, Suite 1, Columbus, NJ 08022.
Township of Maple Shade | Municipal Building, Community Development, 200 Stiles Avenue, Maple Shade, NJ 08052.
Township of Medford | Municipal Hall, 17 North Main Street, Medford, NJ 08055.
Township of Moorestown | Town Hall, Department of Community Development, 2nd Floor, 111 West 2nd Street, Moorestown, NJ 08057.
Township of Mount Holly | Municipal Building, Clerk's Office, 3rd Floor, 23 Washington Street, Mount Holly, NJ 08060.
Township of Mount Laurel | Municipal Building, 100 Mount Laurel Road, Mount Laurel, NJ 08054.
Township of New Hanover | New Hanover Township Municipal Building, 2 Hockamick Road, Cookstown, NJ 08511.
Township of North Hanover | North Hanover Township Municipal Building, 41 Schoolhouse Road, Jacobstown, NJ 08562.
Township of Pemberton | Municipal Building, 500 Pemberton-Browns Mills Road, Pemberton, NJ 08068.
Township of Riverside | Administrative Building, Construction Office, 237 South Pavilion Avenue, Riverside, NJ 08075.
Township of Shamong | Municipal Building, 105 Willow Grove Road, Shamong, NJ 08088.
Township of Southampton | Municipal Building, 5 Retreat Road, Southampton, NJ 08088.
Township of Springfield | Springfield Township Municipal Building, 2159 Jacksonville-Jobstown Road, Jobstown, NJ 08041.
Township of Tabernacle | Town Hall, 163 Carranza Road, Tabernacle, NJ 08088.
Township of Washington | Washington Township Municipal Building, Emergency Management Office, 2436 County Route 563, Egg Harbor City, NJ 08215.
Township of Westampton | Municipal Complex, Construction Office, 710 Rancocas Road, Westampton, NJ 08060.
Township of Willingboro | Township Municipal Building, 1 Reverend Dr. Martin Luther King Jr. Drive, Willingboro, NJ 08046.
Township of Woodland | Woodland Township Municipal Building, 3943 Main Street, Chatsworth, NJ 08019.

[FR Doc. 2016-23455 Filed 9-28-16; 8:45 am]

BILLING CODE 9110-12-P